DEPARTMENT OF THE INTERIOR

Bureau of Land Management

[LLCA9300000 L14300000 EU0000; CACA 52334, CACA 52759, CACA 52764]

Notice of Intent To Prepare an Amendment to the Caliente Resource Management Plan and Associated Environmental Assessment

AGENCY: Bureau of Land Management, Interior.

ACTION: Notice of Intent.

SUMMARY: In compliance with the National Environmental Policy Act of 1969, as amended, and the Federal Land Policy and Management Act of 1976 (FLPMA), as amended, the Bureau of Land Management (BLM), Bakersfield Field Office, Bakersfield, California, intends to prepare an amendment to the 1997 Caliente Resource Management Plan (RMP) and an Environmental Assessment (EA) to identify three parcels of public land totaling 83.02 acres for possible direct sale. By this notice the BLM is announcing the beginning of the scoping process to solicit public comments and identify issues.

DATES: This notice initiates the public scoping process for the EA. Comments on issues may be submitted in writing until October 14, 2011. The date(s) and location(s) of any scoping meetings will be announced at least 15 days in advance through the local news media. In order to be included in the EA, all comments must be received prior to the close of the scoping period or 15 days after the last public meeting, whichever is later. The BLM will provide additional opportunities for public participation upon publication of the EA.

ADDRESSES: Comments should be addressed to Tim Smith, BLM Bakersfield Field Manager, 3801 Pegasus Drive, Bakersfield, California 93308. Documents pertinent to this notice will be available for public review at this address during regular business hours (7:30 a.m. to 4:15 p.m.) Monday through Friday, except holidays.

FOR FURTHER INFORMATION CONTACT: And/or to have your name added to our mailing list, contact Diane Simpson, Realty Specialist, BLM Bakersfield Field Office, telephone (661) 391-6125; address 3801 Pegasus Drive, Bakersfield, California 93308. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The BLM has received requests from the City of Maricopa, the Kaweah Delta Water Conservation District, and ARC Vineyards, LLC to purchase the following public lands, respectively, by direct sale, under the authority of Section 203 of FLPMA (43 U.S.C. 1713):

Parcel 1, requested by the City of Maricopa, is described as:

San Bernardino Meridian

T. 11 N., R. 23 W.,

Sec. 7, lot 3 in the NW1/4.

The area described contains 15.81 acres in Kern County.

Parcel 2, requested by the Kaweah Delta Water Conservation District, is described as:

Mount Diablo Meridian

T. 17 S., R. 28 E,

Sec. 4, lots 3 and 4.

The area described contains 61.28 acres in Tulare County.

Parcel 3, requested by ARC Vineyards, LLC, is described as:

San Bernardino Meridian

T. 9 N., R. 33 W.,

Sec. 20, lot 1.

The area described contains 5.93 acres in Santa Barbara County.

Parcels one and two are located in the Valley Management Area and the South Sierra Management Area, respectively, of the Caliente RMP. The Caliente RMP identifies parcels one and two for land tenure adjustment through land exchanges to consolidate natural resource values. Under the Caliente RMP, public lands identified for land tenure adjustment may also be disposed of by sale, but sales were to be considered infrequently and limited to those small parcels where the value would not warrant inclusion of the parcel in a land exchange process. Parcel three is located in the Coast Management Area of the Caliente RMP, but does not appear on the RMP maps as public land due to an error in mapping. The Caliente RMP provides that newly recognized public lands would be managed consistent with adjacent public lands, if any, and may be suitable for land tenure adjustment. All public lands in the Coast Management Area were identified as possibly being suitable for management by other agencies (e.g., for conservation purposes) or land tenure adjustment in the Caliente RMP. This plan amendment will be limited to an analysis of whether the public lands described above meet the Section 203 sales criteria of FLPMA. The proposed amendment would allow for the sale of the lands described above, regardless of their potential value in any land exchange to consolidate natural resource values. This notice initiates the public scoping process to identify specific issues related to the proposed amendment and associated environmental analysis. The BLM anticipates that the EA will consider both a plan amendment and the subsequent sale of the land and has identified the following preliminary issues of concern: Mineral resources, special status species, and cultural resources. The BLM anticipates that the EA will include input from the disciplines of geology, biology and archaeology as a minimum.

The planning process begins with the publication of this notice in the Federal Register. The BLM will follow its planning regulations (43 CFR 1600) in processing this plan amendment.

Before including your address, phone number, e-mail address, or other personal identifying information in your comment, be advised that your entire comment—including your personal identifying information—may be made publicly available at any time. While you can ask us in your comment to withhold from public review your personal indentifying information, we cannot guarantee that we will be able to do so.

Authority: 40 CFR 1501.7 and 43 CFR 1610.2(c).

Thomas Pogacnik,
Deputy State Director, Natural Resources.

[FR Doc. 2011-23481 Filed 9-13-11; 8:45 am]

BILLING CODE P